PENSION BENEFIT GUARANTY CORPORATION

29 CFR Part 4904

RIN 1212-AA99

Ethical Conduct of Employees

AGENCY: Pension Benefit Guaranty Corporation.

ACTION: Final rule.

SUMMARY: The Pension Benefit Guaranty Corporation is removing its regulations on the ethical conduct of employees (Part 4904). The standards of ethical conduct issued by the Office of Government Ethics provide guidance for PBGC employees on this subject.

EFFECTIVE DATE: February 13, 2004.

FOR FURTHER INFORMATION CONTACT: Harold J. Ashner, Assistant General Counsel, or Thomas H. Gabriel, Attorney, Office of the General Counsel, PBGC, 1200 K Street, NW., Washington, DC 20005-4026; 202-326-4024. (For TTY/TDD users, call the Federal relay service toll-free at 1-800-877-8339 and ask to be connected to 202-326-4024.)

SUPPLEMENTARY INFORMATION: On August 7, 1992 (57 FR 35006), the Office of Government Ethics published a final rule on Standards of Ethical Conduct for Employees of the Executive Branch. The OGE standards (5 CFR part 2635), which took effect on February 3, 1993, establish uniform ethical conduct standards applicable to all executive branch personnel.

When OGE published the standards, it stated that although most existing individual agency standards of conduct would be superseded when the standards took effect, an agency's standards dealing with outside employment would be preserved for one year or until the agency issued a supplemental regulation, whichever occurred first. (The time period was subsequently extended, but has now expired for the PBGC.)

On January 14, 1993 (58 FR 4318), the PBGC issued a final rule that amended its regulations on the Ethical Conduct of Employees (subpart A of 29 CFR part 2602) by removing all provisions other than those dealing with outside employment. These outside employment provisions, which are now codified at 29 CFR part 4904, have been superseded by OGE's government-wide regulations. Accordingly, the PBGC is removing part 4904 from its regulations.

Because this rule involves agency management and personnel (5 U.S.C. 553(a)(2)), general notice of proposed rulemaking and a delayed effective date are not required (5 U.S.C. 553(b), (d)).

Because no general notice of proposed rulemaking is required, the Regulatory Flexibility Act does not apply (5 U.S.C. 601(2)).

List of Subjects in 29 CFR Part 4904

Conflict of interests, Government employees, Penalties, Political activities (Government employees), Production and disclosure of information, Testimony.

For the reasons set forth above, 29 CFR chapter XL is amended as follows:

PART 4904—ETHICAL CONDUCT OF EMPLOYEES

1. The authority citation for part 4904 continues to read as follows:

Authority: 29 U.S.C. 1302(b); E.O. 11222, 30 FR 6469; 5 CFR 735.104.

PART 4904—[REMOVED]

2. Part 4904 is removed.

Issued in Washington, DC this 10th day of February, 2004.
Steven A. Kandarian,
Executive Director, Pension Benefit Guaranty Corporation.

[FR Doc. 04-3246 Filed 2-12-04; 8:45 am]

BILLING CODE 7708-01-P